DEPARTMENT OF TRANSPORTATION

National Highway Traffic Safety Administration

[Docket No. NHTSA-2010-0178; Notice 1]

Mercedes-Benz USA, LLC and Daimler AG, Receipt of Petition for Decision of Inconsequential Noncompliance

Mercedes-Benz USA, LLC (MBUSA) ¹ on behalf of itself and on behalf of its parent company Daimler AG (DAG) has determined that certain 2002-2009 G-Class multipurpose vehicles, equipped with headlamp grill shields, that were manufactured from September 2002 through August 2008, fail to meet the requirements of paragraph S7.8.5 of Federal Motor Vehicle Safety Standard (FMVSS) No. 108, Lamps, Reflective Devices, and Associated Equipment. MB has filed an appropriate report pursuant to 49 CFR part 573, Defect and Noncompliance Responsibility and Reports, dated September 27, 2010.

¹ Mercedes-Benz USA, LLC (MBUSA), is organized under the laws of the state of Delaware. MBUSA is the importer of the subject vehicles and Daimler AG is the manufacturer of the vehicles. Daimler AG is organized under the laws of Germany.

Pursuant to 49 U.S.C. 30118(d) and 30120(h) (see implementing rule at 49 CFR part 556), MBUSA has petitioned for an exemption from the notification and remedy requirements of 49 U.S.C. Chapter 301 on the basis that this noncompliance is inconsequential to motor vehicle safety.

This notice of receipt of MB's petition is published under 49 U.S.C. 30118 and 30120 and does not represent any agency decision or other exercise of judgment concerning the merits of the petition.

MBUSA estimates that approximately 1,938 2002-2009 G-Class multipurpose passenger vehicles equipped with headlamp grill shields are affected. The vehicles were manufactured by its parent company DAG from September 2002 through August 2008.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance.

Paragraph S7.8.5 of FMVSS No. 108 requires:

S7.8.5 When activated in a steady-burning state, headlamps shall not have any styling ornament or other feature, such as a translucent cover or grill, in front of the lens. Headlamp wipers may be used in front of the lens provided that the headlamp system is designed to conform with all applicable photometric requirements with the wiper stopped in any position in front of the lens. When a headlamp system is installed on a motor vehicle, it shall be aimable with at least one of the following: An externally applied aiming device, as specified in S7.8.5.1; an on-vehicle headlamp aiming device installed by the vehicle or lamp manufacturer, as specified in S7.8.5.2; or by visual/optical means, as specified in S7.8.5.3.

MB described the noncompliance as the presence of protective grills mounted in front of the headlamps.

In its petition MBUSA argues that the noncompliance is inconsequential to motor vehicle safety for the following reasons:

(1) The standard does not account for a headlamp grill that does not pose any risk of scratching or condensation buildup, force the beam to pass through an additional layer of glazing, or cause deterioration of photometric performance due to the presence of a grill. The design of the G-Class grill allows full luminosity, in compliance with the performance requirements of FMVSS No. 108 and creates no interference with the normal, long-term operation of the headlamps. Accordingly, as with the stated exception in FMVSS No. 108 for headlamp wipers, MBUSA petitions that this protected safety device, like wipers, should be allowed on the affected vehicles.

(2) The grills are attached with clamping screws to the vehicle body. The screws and grills do not touch the headlamp assemblies in any way, eliminating any possibility of scratching or cracking the headlamps. The grills also provide additional protection against environmental conditions to ensure long-term performance of the headlamps.

(3) Rather than degrade the long term luminosity of the headlamps, the grills promote performance by protecting the headlamps from debris and other environmental conditions.

(4) Photometric testing conducted in 2006 shows that the headlamps meet all performance requirements with the grills intact.

(5) DAG also tested headlamps that had been mounted on a vehicle with a grill since October 2006. The photometric performance of these headlamps still showed no accelerated deterioration nor any other indications of affected use.

(6) To date, MBUSA has received no reports of any concerns relating to the grills or any indications that the grills in any way interfere with the performance of the vehicle's lighting.

Supported by the above stated reasons, MB believes that the described FMVSS No. 108 noncompliance is inconsequential to motor vehicle safety, and that its petition, to exempt it from providing recall notification of noncompliance as required by 49 U.S.C. 30118 and remedying the recall noncompliance as required by 49 U.S.C. 30120, should be granted.

Interested persons are invited to submit written data, views, and arguments on this petition. Comments must refer to the docket and notice number cited at the beginning of this notice and be submitted by any of the following methods:

a. By mail addressed to: U.S. Department of Transportation, Docket Operations, M-30, West Building Ground Floor, Room W12-140, 1200 New Jersey Avenue, SE., Washington, DC 20590.

b. By hand delivery to U.S. Department of Transportation, Docket Operations, M-30, West Building Ground Floor, Room W12-140, 1200 New Jersey Avenue, SE., Washington, DC 20590. The Docket Section is open on weekdays from 10 a.m. to 5 p.m. except Federal holidays.

c. Electronically: By logging onto the Federal Docket Management System (FDMS) Web site at http://www.regulations.gov. Follow the online instructions for submitting comments. Comments may also be faxed to 1-202-493-2251.

Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided.

Documents submitted to a docket may be viewed by anyone at the address and times given above. The documents may also be viewed on the Internet at http://www.regulations.gov by following the online instructions for accessing the dockets. DOT's complete Privacy Act Statement is available for review in the Federal Register published on April 11, 2000 (65 FR 19477-78).

The petition, supporting materials, and all comments received before the close of business on the closing date indicated below will be filed and will be considered. All comments and supporting materials received after the closing date will also be filed and will be considered to the extent possible. When the petition is granted or denied, notice of the decision will be published in the Federal Register pursuant to the authority indicated below.

Comment Closing Date: February 24, 2011.

Authority: 49 U.S.C. 30118, 30120: Delegations of authority at CFR 1.50 and 501.8.

Issued on: January 18, 2011.
Claude H. Harris,
Acting Associate Administrator for Enforcement.

[FR Doc. 2011-1416 Filed 1-24-11; 8:45 am]

BILLING CODE 4910-59-P